DEPARTMENT OF LABOR

Agency Information Collection Activities; Submission for OMB Review; Comment Request; Job Corps Hall of Fame/Successful Graduate Nomination

ACTION: Notice of availability; request for comments.

SUMMARY: The Department of Labor (DOL) is submitting this Employment and Training Administration (ETA)-sponsored information collection request (ICR) to the Office of Management and Budget (OMB) for review and approval in accordance with the Paperwork Reduction Act of 1995 (PRA). Public comments on the ICR are invited.

DATES: The OMB will consider all written comments that the agency receives on or before January 25, 2024.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Michael Howell by telephone at 202-693-6782, or by email at DOL_PRA_PUBLIC@dol.gov.

SUPPLEMENTARY INFORMATION: DOL is seeking approval for the Job Corps Hall of Fame Candidate and Successful Graduate Nomination forms, which gather information about program graduates' post-enrollment outcomes. The information submitted through the Hall of Fame Candidate and Successful Graduate forms will be reviewed by the National Office of Job Corps, for selection of one graduate annually to the Job Corps Hall of Fame and two recent graduates recognizing their career success after leaving the program. For additional substantive information about this ICR, see the related notice published in the Federal Register on March 20, 2023 (88 FR 16667).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-ETA.

Title of Collection: Job Corps Hall of Fame/Successful Graduate Nomination.

OMB Control Number: 1205-0546.

Affected Public: Businesses or other for-profits; Not-for-profit institutions; State, Local and Tribal Governments.

Number of Respondents: 800.

Frequency: Varies.

Number of Responses: 800.

Estimated Average Time per Response: Varies.

Annual Burden Hours: 1,000 hours.

Total Estimated Annual Other Costs Burden: $0.

(Authority: 44 U.S.C. 3507(a)(1)(D))

Michael Howell,
Senior Paperwork Reduction Act Analyst.

[FR Doc. 2023-28351 Filed 12-22-23; 8:45 am]

BILLING CODE 4510-FN-P